DEPARTMENT OF STATE

[Public Notice10939]

Notice of Public Meeting of the International Telecommunication Advisory Committee and Preparations for Upcoming International Telecommunications Meetings

This notice announces a meeting of the Department of State's International Telecommunication Advisory Committee (ITAC). The ITAC will meet on Thursday, December 12, 2019 at AT&T 1120 20th Street NW, Washington, DC 20036, at 2:00 p.m., to review the results of international telecommunication policy related activities since the March 2019 ITAC and report on key results of the World Radiocommunication Conference 2019. The meeting will focus on the following topics:

1. International Telecommunication Union's Telecommunication Standardization Sector (ITU-T)

a. Study Group (SG) 2 & 3

b. SG17

2. Telecommunication Standardization Advisory Group (TSAG) SG-20

3. Inter-American Telecommunication Commission (CITEL)

a. PCC-I

b. Extraordinary 2019 Session of the Council—ITU HQ

4. Council Working Groups (CWG)

5. Organization for Economic Cooperation and Development (OECD) Committee on Digital Economy Policy (CDEP)

6. Asia Pacific Economic Corporation Telecommunications (APECTEL)

7. ITU Telecommunication Development Sector (ITU-D)

Attendance at the ITAC meeting is open to the public as seating capacity allows. The public will have an opportunity to provide comments at this meeting at the invitation of the chair. Persons wishing to request reasonable accommodation during the meeting should send their requests to ITAC@state.gov no later than December 6, 2019. Requests made after that time will be considered but might not be able to be accommodated.

Further details on this ITAC meeting will be announced through the Department of State's email list, ITAC@lmlist.state.gov. Use of the ITAC list is limited to meeting announcements and confirmations, distribution of agendas and other relevant meeting documents. The Department welcomes any U.S. citizen or legal permanent resident to remain on or join the ITAC listserv by registering by email via ITAC@state.gov and providing his or her name, email address, telephone contact and the company, organization, or community that he or she is representing, if any. Please send all inquiries to ITAC@state.gov.

Adam W. Lusin,
Office Director, Multilateral Affairs, International Communication and Information Policy, U.S. Department of State.

[FR Doc. 2019-24259 Filed 11-6-19; 8:45 am]

BILLING CODE 4710-AE-P